DEPARTMENT OF LABOR

Employment and Training Administration

[TA-W-37,923]

GE Industrial Systems, Erie, PA, Notice of Termination of Investigation

Pursuant to Section 221 of the Trade Act of 1974, an investigation was initiated on July 31, 2000 in response to a worker petition which was filed on behalf of workers at GE Industrial Systems, Erie, Pennsylvania.

The investigation revealed that an active certification covering the petitioning group of workers remains in effect until October 28, 2000 (TA-W-35,079). Consequently, further investigation in this case would serve no purpose, and the investigation has been terminated.

Petitioners may reapply for eligibility when layoffs occurring after the expiration date of the active certification referenced above are imminent.

Signed at Washington, DC, this 31st day of August, 2000.
Edward A. Tomchick,
Director, Division of Trade Adjustment Assistance.

[FR Doc. 00-23932 Filed 9-15-00; 8:45 am]

BILLING CODE 4510-30-M